DEPARTMENT OF THE TREASURY

Internal Revenue Service

Open Meeting of the Area 3 Taxpayer Advocacy Panel (Including the States of Florida, Georgia, Alabama, Mississippi, Louisiana, Arkansas, and the Territory of Puerto Rico)

AGENCY: Internal Revenue Service (IRS), Treasury.

ACTION: Notice of meeting.

SUMMARY: An open meeting of the Area 3 Taxpayer Advocacy Panel will be conducted. The Taxpayer Advocacy Panel is soliciting public comments, ideas, and suggestions on improving customer service at the Internal Revenue Service.

DATES: The meeting will be held Thursday, May 20, 2010 and Friday, May 21, 2009.

FOR FURTHER INFORMATION CONTACT: Donna Powers at 1-888-912-1227 or 954- 423-7977.

SUPPLEMENTARY INFORMATION: Notice is hereby given pursuant to section 10(a)(2) of the Federal Advisory Committee Act, 5 U.S.C. App. (1988) that an open meeting of the Area 3 Taxpayer Advocacy Panel will be held Thursday, May 20, 2009, 8 a.m. to 5 p.m. and Friday, May 21, 2009, 8 a.m. to 12 p.m. Central Time in New Orleans, LA. The public is invited to make oral comments or submit written statements for consideration. Notification of intent to participate must be made with Donna Powers. For more information please contact Ms. Powers at 1-888-912-1227 or 954-423-7977, or write TAP Office, 1000 South Pine Island Road, Suite 340, Plantation, FL 33324, or post comments to the Web site: http://www.improveirs.org.

The agenda will include various IRS issues.

Dated: April 6, 2010.
Shawn F. Collins,
Director, Taxpayer Advocacy Panel.

[FR Doc. 2010-8339 Filed 4-12-10; 8:45 am]

BILLING CODE 4830-01-P